DEPARTMENT OF ENERGY

Federal Energy Regulatory Commission

Notice of Public Meeting on Wholesale Power Markets and Transmission Services in California

September 1, 2000.

On September 15, 2000, the Federal Energy Regulatory Commission is planning to convene a public meeting in San Diego, California to allow interested persons to give the Commission their views on recent events in California's wholesale markets. While the Commission is finalizing arrangements for a meeting on September 15th, the Commission may need to change the meeting to a different date within the week of September 11th. A further notice will be issued confirming the date. The meeting is scheduled to begin at 9 a.m., at the San Diego Concourse, the Copper Room, 202 C Street, San Diego, California 92101. All interested persons may attend the meeting. The meeting will be transcribed. A separate notice will be issued before the meeting, setting forth an agenda and identifying the panels of participants. Additional information may be obtained from the Office of External Affairs at (202) 208-0870. Information also may be obtained from the Commission's web page at www.ferc.fed.us.

Linwood A. Watson, Jr.,
Acting Secretary.

[FR Doc. 00-23056 Filed 9-7-00; 8:45 am]

BILLING CODE 6717-01-M